DEPARTMENT OF HEALTH AND HUMAN SERVICES

Centers for Disease Control and Prevention

[Program Announcement 03162]

Expansion of HIV/AIDS/STD Monitoring, Evaluation and Other Program Support in the Government of Brazil; Notice of Intent to Fund Single Eligibility Award

A. Purpose

The Centers for Disease Control and Prevention (CDC) announces the intent to fund fiscal year (FY) 2003 funds for a cooperative agreement program for the improvement and expansion of HIV/AIDS/STD prevention and support activities in Brazil. The Catalog of Federal Domestic Assistance number for this program is 93.941.

B. Eligible Applicant

Assistance will be provided only to the Foundation for the Scientific and Technological Development in Health (FIOTEC). The Brazilian Government has conducted the National response to the HIV/AIDS epidemic in Brazil primarily through the Ministry of Health division referred to as the National Coordination of STDs and HIV (CN DST-HIV). This coordination has been supported both by the Ministry of Finance and two World Bank Loans/Grants, a third three-year loan is currently being implemented FY 2003. The CN DST-HIV receives its only funding directly from the Ministry of Finance, there is no fiscal unit or mechanism to receive or manage direct funding from other donor agencies.

In 1999, the Brazilian Ministry of Health (MOH) requested the Global AIDS Program (GAP) to conduct a needs assessment of their National AIDS Program. As a result of this assessment the Brazilian MOH invited the Global Aids Program to provide technical assistance to the National Coordination for Sexually Transmitted Diseases and HIV/AIDS Program in Brazil (CN DST/AIDS). The CN DST-HIV implements its strategic plan through a number of governmental and non-governmental agencies, including Federal Universities. These partner organizations often provide a variety of technical, programmatic and management services to the National Coordination. One such organization is FIOTEC.

FIOTEC is a foundation that draws on the collective body of Health Researchers from a group of research institutes called the Oswaldo Cruz Foundation, or FIOCRUZ. There are a number of these institutes located across the country working in close collaboration with Federal, State and Municipal Health offices. These research institutes work in areas of applied research of infectious diseases control and public health management.

FIOTEC also is a management organization with a strong fiscal unit that manages several international grant awards to the Governmental of Brazil. The foundation has an established record of transparent fiscal management with international grants that could avail its services to manage this cooperative agreement. To date, HHS/CDC/GAP has not worked with this foundation.

HHS/CDC/GAP and the CN DST-HIV are currently entering into a joint collaboration, through a Memorandum of Understanding, that is designed to assist them in building a Monitoring and Evaluation Unit and to further scale up these activities at the State and Municipal levels of Government.

As noted above, the CN DST/AIDS is the only organization that can carry out these activities. However, the CN DST/AIDS has no financial mechanism for the direct receipt of funds. It has no fiscal unit and cannot enter into a direct cooperative agreement with GAP Brazil or any other agency. Presently, the CN DST/AIDS receives funds from the Ministry of Health in three ways (1) directly from the Ministry of Finance (2) through an agreement with the United Nations, and (3) through a cooperative agreement with MOH/FIOTEC.

FIOTEC/FIOCRUZ has been identified by the MOH/CN DST/AIDS as the domestic organization to assist in this effort and would benefit in the long term from CDC's expertise to institutionalize these methodologies of Monitoring and Evaluation. Therefore, after much examination and negotiation to find the best mechanism to initiate and manage this CDC Cooperative Agreement—the Ministry of Health has determined that the only mechanism to operationalize this Cooperative Agreement between them and HHS/CDC/GAP is through FIOTEC.

C. Funding

Approximately $1,000,000 is available in FY 2003 to fund this award. It is expected that the award will begin on or before September 15, 2003, and will be made for a 12-month budget period within a project period of up to four years. Funding estimates may change. None of these funds may be used to support travel to or from or activities in Cuba.

D. Where to Obtain Additional Information

For general comments or questions about this announcement, contact:

Technical Information Management, CDC Procurement and Grants Office, 2920 Brandywine Road, Atlanta, GA 30341-4146, Telephone: 770-488-2700.

For technical questions about this program, contact: William E. Brady, Global AIDS Program (GAP), Brazil Country Team, National Center for HIV, STD, and TB Prevention, Centers for Disease Control and Prevention, Brazil-CDC AIDS Project Team, CN DST/AIDS, Brasilia, Brazil, Telephone: 55-61 273-4851, e-mail: web0@cdc.gov.

Dated: August 14, 2003.
Sandra R. Manning,
Director, Procurement and Grants Office, Centers for Disease Control and Prevention.

[FR Doc. 03-21265 Filed 8-19-03; 8:45 am]

BILLING CODE 4163-18-P